NATIONAL TRANSPORTATION SAFETY BOARD

Notice of Sunshine Act Meeting

Time and Date: 9:30 a.m., Tuesday, January 9, 2007.

Place: NTSB Conference Center, 429 L'Enfant Plaza SW., Washington, DC 20594.

Status: The one item is open to the public.

Matter to be Considered: 7695B, Aircraft Accident Report—Crash of Pinnacle Airlines Flight 3701, Bombardier CL-600-2B19, N8396A, Jefferson City, Missouri, October 14, 2004.

News Media Contact: Terry Williams: (202) 314-6100.

Individuals requesting specific accommodations should contact Chris Bisett at (202) 314-6305 by Friday, January 5, 2007.

The public may view the meeting via a live or archived webcast by accessing a link under “News & Events” on the NTSB home page at http://www.ntsb.gov.

FOR FURTHER INFORMATION CONTACT: Vicky D'Onofrio, (202) 314-6410.

Dated: December 29, 2006.
Vicky D'Onofrio,
Federal Register Liaison Officer.

[FR Doc. 06-9990 Filed 12-29-06; 12:31 pm]

BILLING CODE 7533-01-M